DEPARTMENT OF TRANSPORTATION

Federal Highway Administration

Environmental Impact Statement: Peoria, Tazewell, and Woodford Counties, Illinois

AGENCY: Federal Highway Administration (FHWA), DOT.

ACTION: Notice of Intent.

SUMMARY: The FHWA is issuing this notice to advise the public that a Tier 1 Environmental Impact Statement will be prepared for the Eastern Bypass Study in Peoria, Tazewell, and Woodford Counties in Illinois.

FOR FURTHER INFORMATION CONTACT: Catherine A. Batey, Division Administrator, Federal Highway Administration, 3250 Executive Park Drive, Springfield, Illinois 62703, Phone: (217) 492-4600. Joseph E. Crowe, P.E., Deputy Director of Highways, Region 3 Engineer, Illinois Department of Transportation, 401 Main Street, Peoria, Illinois 61602, Phone: (309) 671-3333.

SUPPLEMENTARY INFORMATION: The FHWA, in cooperation with the Illinois Department of Transportation (IDOT), will prepare a Tier 1 Environmental Impact Statement (EIS) for the proposed Eastern Bypass Study. The anticipated project termini are Interstate 74, east of the city of East Peoria, and Illinois Route 6, north of the city of Peoria. The study area covers approximately 200 square miles in Peoria, Tazewell, and Woodford Counties in Illinois. The project is being considered in order to improve vehicular mobility and access across the Illinois River and between Tazewell and Woodford Counties.

The Tier 1 EIS will evaluate alternatives including a No Action Alternative, transportation system management strategies, existing or new transit improvements, and various Build Corridor Alternatives. The No Action Alternative will draw upon highway improvements already planned in the study area. The Tier 1 EIS will develop and evaluate a range of reasonable Build Corridor Alternatives, including a new crossing of the Illinois River, within which the proposed project could be constructed. The Build Alternatives will be developed at a corridor level and will address transportation and social benefits, environmental and social impacts, and other possible effects. The Tier 1 EIS will conclude with a Record of Decision identifying one or more corridors that can encompass one or more transportation alternatives to be studied in subsequent Tier 2 NEPA documents.

The Tier 1 EIS will evaluate potential effects on the social, economic, and physical environment, including land use and socioeconomic conditions, ecological resources, and cultural resources, at a corridor level commensurate with a Tier 1 EIS. Potentially affected resources include: agricultural, residential, commercial, and industrial properties; streams, wetlands and floodplains; woodlands, park land, natural areas, and land and water reserves; and historic properties.

A scoping meeting for the Tier 1 EIS was held on November 1, 2012, in Peoria, Illinois to obtain input from resource agencies on the level of detail and methodologies to be used in the tiered EIS process. Additional comments and suggestions are invited from all interested parties regarding the scope of the Tier 1 EIS to ensure all issues related to this proposal are addressed and that any significant impacts are identified.

To ensure all substantive issues related to this proposal are identified and addressed, the study will be conducted using Context Sensitive Solutions Policy and will include the development of a Stakeholder Involvement Plan (SIP). The SIP will outline public involvement activities to be included in the study. Public informational meetings, local government meetings, newsletters, and a project Web site will provide opportunities for public input. A public hearing will be held at the time the draft EIS is made available for public and agency review and comment. Public notice will be given of the time and place of public meetings and hearings. Comments or questions regarding this proposed action and the Tier 1 EIS are invited from all interested parties and should be directed to the FHWA or the Illinois Department of Transportation at the addresses provided above.

(Catalog of Federal Domestic Assistance Program Number 20.205, Highway Research, Planning and Construction. The regulations implementing Executive Order 12372 regarding intergovernmental consultation on Federal programs and activities apply to this program.)

Issued on: May 2, 2014.
Glenn D. Fulkerson,
Assistant Division Administrator, Federal Highway Administration, Springfield, Illinois.

[FR Doc. 2014-10566 Filed 5-7-14; 8:45 am]

BILLING CODE P